DEPARTMENT OF THE INTERIOR

Bureau of Land Management

[ID-320-06-7122-EO-8030]

Notice of Intent To Prepare an Environmental Impact Statement for the Proposed Blackfoot Bridge Mine, Caribou County, ID

AGENCY: Bureau of Land Management, Interior, Pocatello Field Office.

ACTION: Notice of intent.

SUMMARY: In accordance with the National Environmental Policy Act of 1969 [NEPA, 102(2)(C)] and the Federal Land Policy and Management Act of 1976, notice is hereby given that the Bureau of Land Management (BLM), Pocatello Field Office, will prepare an Environmental Impact Statement (EIS) to consider approval of the proposed Blackfoot Bridge Mine and Reclamation Plan (MRP) for proposed operations at the Blackfoot Bridge Phosphate Mine, Caribou County, Idaho, located approximately 9 miles northeast of Soda Springs, Idaho.

DATES: To receive full consideration, written comments concerning specific issues and the scope of the analysis described in this Notice should be received within 30 days of the last public scoping meeting. The scoping process for this EIS will include mailings, news releases or legal notices, and public scoping meetings. The dates, times, and specific locations of the scoping meetings will be announced through local media at least 15 days in advance.

ADDRESSES: Send written comments to Jerry Koblitz, Greystone Environmental Consultants, Inc., 5231 Quebec Street, Greenwood Village, CO 80111. They may also be submitted in writing at one of the public meetings or by e-mail to jkoblitz@greystone.us.

FOR FURTHER INFORMATION CONTACT: Kyle Free, Bureau of Land Management, Pocatello Field Office, 4350 Cliffs Drive, Pocatello, Idaho 83204, phone (208) 478-6368, fax (208) 478-6376.

SUPPLEMENTARY INFORMATION: The project area includes 1,447 acres. The proposed mining operations would utilize private lands and public lands administered by the Bureau of Land Management. This activity is in conformance with the Pocatello Resource Management Plan and Environmental Impact Statement (BLM, 1987). Mining is proposed to take place on Federal Phosphate Leases I-05613 and I-013709 which comprise a total of 631 acres. Proposed lease modifications included within the proposed project area would add an additional 200 acres to the existing I-05613 lease. Some off-lease ancillary disturbances within the 1,447-acre project area such as roads and overburden disposal sites are also proposed.

The company, P4 Production, LLC, herein after referred to as P4, has submitted the MRP for BLM to consider. P4 must receive approval of the MRP and obtain additional federal and state permits prior to mining under the proposed mine plan. This EIS would evaluate effects to the human environment including the potential effects of selenium and other contaminants.

It is anticipated that the Idaho Departments of Lands and Environmental Quality will participate in preparation of the EIS as cooperating agencies because of their special expertise and responsibilities for mining, reclamation, and the environment.

The MRP proposes a new open pit mining operation on federal leases I-05613 and I-013709. In addition, external waste rock piles, a topsoil stockpile, haul road, and runoff/sediment control and other facilities would be constructed. Mining would include best management practices for control and prevention of releases of sediment and dissolved contaminants such as selenium to nearby surface and groundwaters, such as the Blackfoot River, which is located as close as 585-ft from the proposed excavation site but is believed to be hydrologically separated. The excavation site would not be visible from the Blackfoot River. The proposed open pits would be located along a ridge and would cross the upper drainage of an intermittent stream known locally as State Lands Creek. The drainage would be reestablished in its original location after mining has been concluded. Preliminary baseline information suggests that some areas within the proposed mine pits may intercept ground water during mining. A haulroad would be constructed to handle ore and overburden. No public road closures would occur as a result of the proposed action. The total mine life is expected to span 15 years. P4 currently supplies their elemental phosphorous plant with ore from their South Rasmussen Mine about 10 miles northeast of the Blackfoot Bridge property.

Existing haul roads, maintenance, and administrative facilities would be used during the mine period. Ore from the Blackfoot Bridge Mine would be hauled by truck 8 miles to P4's processing facilities near Soda Springs, Idaho. Disturbed lands directly resulting from the proposed excavation activities would total 764 surface acres of private, State, and Federal lands. Reclamation efforts would be concurrent with mining and would include backfilling most of the proposed open pit areas, regrading fill slopes, spreading topsoil, planting of appropriate vegetation, and installation and maintenance of runoff and sediment control facilities.

Preliminary issues include potential effects or concerns related to: Ground water and surface water quantity and quality, release of naturally occurring contaminants, recreation, downstream uses, wildlife and their habitats, livestock grazing, wetlands and riparian habitat, socio-economics, and development of best management practices for mine operations. The Blackfoot River is currently listed for sediment on Idaho's Impaired Waters List approved by EPA (Clean Water Act, Section 303(d) List). The Idaho Department of Environmental Quality (IDEQ), the regulatory agency charged with protecting the water quality within the State of Idaho, may consider listing this segment of the Blackfoot River for selenium or other Constituents of Potential Concern (COPCs) in the future. An active bald eagle nest is also known to exist near the project area.

The EIS will analyze the Proposed Action, a No Action Alternative, and other alternatives raised during the scoping process, which may include alterations to portions of the proposed mining plan or sequence, and changes in design parameters to provide Best Management Practices and mitigation to protect resources of concern. Excess overburden disposal alternatives will also be considered.

Agency Decisions—The BLM Pocatello Field Office Manager, who is the responsible official for the EIS and administers mineral development activities on Federal leases, will consider approval of a mine and reclamation plan. The final decision will include consideration of public comments and responses; anticipated environmental consequences discussed in the EIS; and applicable laws, regulations, and policies. Decisions may include approval of a site-specific Mine and Reclamation Plan; issuance of phosphate lease modifications by the BLM, and alternatives. A Section 404 Clean Water Act Permit is anticipated to be required by the U.S. Army Corps of Engineers (Corps). The Corps would render a separate decision related to that permit and how to mitigate the impacts to affected wetlands and waters of the United States.

The tentative project schedule is as follows:

Estimated date for Draft EIS—October, 2006.

Public Comment Period on Draft EIS—60 days from when the Notice of Availability is published in the Federal Register by the Environmental Protection Agency (EPA).

Final EIS—April 2007.

Record of Decision—May 2007.

Two public scoping meetings will be held, each an open house, from 7 p.m.-9 p.m. The open houses would include displays explaining the project and a forum for commenting on the project. Scoping meetings will be held in the Soda Springs City Office Building, Soda Springs, Idaho, and in the BLM Field Office, Pocatello, Idaho. Dates for the two scoping meetings will be published in the Caribou County Sun and in the Idaho State Journal newspapers at least 15 days in advance. Alternatively, interested parties may contact the BLM project lead listed above for specific information regarding the public meetings.

To be most helpful, you should submit formal scoping comments within 30 days after the last public meeting. The minutes and list of attendees for each scoping meeting will be available to the public and open for 30 days after the meeting to any participant who wishes to clarify the views he or she expressed. Individual respondents may request confidentiality. If you wish to withhold your name and/or address from public review or disclosure under the Freedom of Information Act, you must state this prominently at the beginning of your written comment. The BLM will honor such requests to the extent allowed by law. All submissions from organizations or businesses, and from individuals identifying themselves as representatives or officials of organizations or businesses, are available for public inspection in their entirety.

The BLM is seeking input and written comments from Federal, State and local agencies as well as individuals and organizations who may be interested in, or affected by, the proposed action. To assist the BLM in identifying and considering issues and concerns related to the proposed action, comments for scoping, and later for the Draft EIS, should be as specific as possible.

The BLM believes, at this early stage, it is important to give reviewers notice of several court rulings related to public participation in the environmental review process. First, reviewers of draft EISs must structure their participation in the environmental review of the proposal so that it is meaningful and alerts an agency to reviewer positions and contentions. Vermont Yankee Nuclear Power Corp. v. NRDC, 435 U.S. 519,553 (1978). Also, environmental objections that could be raised at the draft EIS stage but that are not raised until after completion of the final EIS may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the 60-day comment period for the draft EIS so that substantive comments and objections are made available to the BLM at a time when it can meaningfully consider them and respond to them in the final EIS.

Dated: January 3, 2006.
Philip Damon,
Field Manager, BLM Pocatello Field Office.

[FR Doc. E6-1515 Filed 2-2-06; 8:45 am]

BILLING CODE 4310-GG-P